DEPARTMENT OF COMMERCE

National Oceanic and Atmospheric Administration

ENVIRONMENTAL PROTECTION AGENCY

Coastal Nonpoint Pollution Control Program: Approval Decision on Puerto Rico Coastal Nonpoint Pollution Control Program

AGENCY: National Oceanic and Atmospheric Administration, U.S. Department of Commerce, and The U.S. Environmental Protection Agency.

ACTION: Notice of Intent to Approve the Puerto Rico Coastal Nonpoint Program.

SUMMARY: Notice is hereby given of the intent to fully approve the Puerto Rico Coastal Nonpoint Pollution Control Program (coastal nonpoint program) and of the availability of the draft Approval Decisions on conditions for the Puerto Rico coastal nonpoint program. Section 6217 of the Coastal Zone Act Reauthorization Amendments (CZARA), 16 U.S.C. section 1455b, requires states and territories with coastal zone management programs that have received approval under section 306 of the Coastal Zone Management Act to develop and implement coastal nonpoint programs. Coastal states and territories were required to submit their coastal nonpoint programs to the National Oceanic and Atmospheric Administration (NOAA) and the U.S. Environmental Protection Agency (EPA) for approval in July 1995. NOAA and EPA conditionally approved the Puerto Rico coastal nonpoint program on November 18, 1997. NOAA and EPA have drafted approval decisions describing how Puerto Rico has satisfied the conditions placed on its program and therefore has a fully approved coastal nonpoint program.

NOAA and EPA are making the draft decisions for the Puerto Rico coastal nonpoint program available for a 30-day public comment period. If no comments are received, the Puerto Rico program will be approved. If comments are received, NOAA and EPA will consider whether such comments are significant enough to affect the decision to fully approve the program.

Copies of the draft Approval Decisions can be found on the NOAA web site at http://www.ocrm.nos.noaa.gov/czm/ or may be obtained upon request from: Joseph P. Flanagan, Coastal Programs Division (N/ORM3), Office of Ocean and Coastal Resource Management, NOS, NOAA, 1305 East-West Highway, Silver Spring, Maryland, 20910, tel. 301-713-3121, extension 201, e-mail joseph.flanagan@noaa.gov.

DATES: Individuals or organizations wishing to submit comments on the draft Approval Decisions should do so by October 5, 2000.

ADDRESSES: Comments should be made to Joseph A. Uravitch, Chief, Coastal Programs Division (N/ORM3), Office of Ocean and Coastal Resource Management, NOS, NOAA, 1305 East-West Highway, Silver Spring, Maryland, tel. 301-713-3155 extension 195, e-mail joseph.uravitch@noaa.gov.

FOR FURTHER INFORMATION CONTACT: Josh Lott, Coastal Program Division (N/ORM3), Office of Ocean and Coastal Resource Management, NOS, NOAA, 1305 East-West Highway, Silver Spring, Maryland, 20910, tel. 301-713-3155, extension 178, e-mail josh.lott@noaa.gov or Katie Lynch, EPA Region 2—2WMWSP, Water Programs Branch, 24th Floor, 290 Broadway, New York, NY 10007, tel. 212-637-3840, e-mail lynch.katie@epa.gov.

Federal Domestic Assistance Catalog 11.419 Coastal Zone Management Program Administration.
Ted I. Lillestolen,
Deputy Assistant Administrator for Ocean Services and Coastal Zone Management, National Oceanic and Atmospheric Administration.
J. Charles Fox,
Assistant Administrator, Office of Water, Environmental Protection Agency.

[FR Doc. 00-22627 Filed 9-1-00; 8:45 am]

BILLING CODE 3510-08-M